OFFICE OF PERSONNEL MANAGEMENT

5 CFR Part 532

RIN 3206-AK96

Prevailing Rate Systems; Change in the Survey Cycle for the Harrison, MS, Nonappropriated Fund Federal Wage System Wage Area

AGENCY: Office of Personnel Management.

ACTION: Interim rule.

SUMMARY: The Office of Personnel Management is issuing an interim rule to change the timing of local wage surveys in the Harrison, Mississippi, nonappropriated fund (NAF) Federal Wage System (FWS) wage area. The purpose of this change is to avoid conducting future surveys in this area during the hurricane season.

DATES: This interim regulation is effective on October 31, 2005. The Office of Personnel Management must receive comments by November 30, 2005.

ADDRESSES: Send or deliver comments to Donald J. Winstead, Deputy Associate Director for Pay and Performance Policy, Strategic Human Resources Policy Division, Office of Personnel Management, Room 7H31, 1900 E Street, NW., Washington, DC 20415-8200; e-mail pay-performance-policy@opm.go; or FAX: (202) 606-4264.

FOR FURTHER INFORMATION CONTACT: Madeline Gonzalez, (202) 606-2838; e-mail pay-performance-policy@opm.gov; or FAX: (202) 606-4264.

SUPPLEMENTARY INFORMATION: In the past, full-scale wage surveys in the Harrison, Mississippi, nonappropriated fund (NAF) Federal Wage System (FWS) wage area were conducted in October of each even-numbered fiscal year. These interim regulations provide that full-scale wage surveys will begin in March of each even-numbered fiscal year, starting with March 2006. With this change, it will no longer be necessary to conduct wage surveys in the Harrison NAF wage area during the hurricane season.

Harrison County, MS, is the sole survey county in the Harrison NAF wage area. Because Hurricane Katrina caused substantial damage to Federal and private sector establishments in Harrison County, moving the Harrison full-scale survey cycle from October to March would allow private sector establishments to recover from the effects of Hurricane Katrina and thus provide wage data that best represent the prevailing rates paid by businesses in the area. Under 5 CFR 532.207, the scheduling of wage surveys takes into consideration the best timing in relation to wage adjustments in the principal local private enterprise establishments, reasonable distribution of workload of the lead agency, the timing of surveys for nearby or selected wage areas, and scheduling relationships with other pay surveys.

Under the interim regulations, the Department of Defense (DOD) will conduct a wage change survey for the Harrison wage area in October 2005 instead of a full-scale survey. DOD will conduct a full-scale wage survey in March 2006 and a wage change survey in March 2007 and will continue the 2-year alternating March cycle.

The Federal Prevailing Rate Advisory Committee (FPRAC), the national labor-management committee responsible for advising the Office of Personnel Management (OPM) on matters concerning the pay of FWS employees, recommended by consensus that we change the full-scale survey cycle for the Harrison NAF wage area from October of each even-numbered fiscal year to March of each even-numbered fiscal year.

Waiver of Notice of Proposed Rulemaking and Delay in Effective Date

Pursuant to 5 U.S.C. 553(b)(3)(B) and (d)(3), I find that good cause exists to waive the general notice of proposed rulemaking. Also pursuant to 5 U.S.C. 553(d)(3), I find that good cause exists for making this rule effective in less than 30 days. This notice is being waived and the regulation is being made effective in less than 30 days because Hurricane Katrina caused substantial economic disruption in the Gulf Coast region affecting the Government's ability to determine prevailing rates for employees of nonappropriated fund Federal activities in Harrison County. This change is needed to relieve DOD from the need to conduct a full-scale wage survey in Harrison County in October 2005.

Regulatory Flexibility Act

I certify that these regulations will not have a significant economic impact on a substantial number of small entities because they would affect only Federal agencies and employees.

List of Subjects in 5 CFR Part 532

Administrative practice and procedure, Freedom of information, Government employees, Reporting and recordkeeping requirements, Wages.

Office of Personnel Management.
Linda M. Springer,
Director.

Accordingly, the Office of Personnel Management is amending 5 CFR part 532 as follows:

PART 532—PREVAILING RATE SYSTEMS

1. The authority citation for part 532 continues to read as follows:

Authority: 5 U.S.C. 5343, 5346; 532.707 also issued under 5 U.S.C. 552.

Appendix B to Subpart B of Part 532—Nationwide Schedule of Nonappropriated Fund Regular Wage Surveys—[Amended]

2. Appendix B to subpart B is amended by revising, under the heading for the State of Mississippi, the listing of beginning month of survey from “October” to “March” for the Harrison NAF wage area.

[FR Doc. 05-21638 Filed 10-28-05; 8:45 am]

BILLING CODE 6325-39-P